ENVIRONMENTAL PROTECTION AGENCY

40 CFR Part 52

[EPA-R07-OAR-2014-0399; FRL-9920-67-Region 7]

Approval and Promulgation of Implementation Plans; State of Missouri; St. Louis Inspection and Maintenance Program

AGENCY: Environmental Protection Agency.

ACTION: Proposed rule.

SUMMARY: The Environmental Protection Agency (EPA) proposes to approve State Implementation Plan (SIP) revisions submitted by the State of Missouri relating to the Inspection and Maintenance (I/M) Program. On August 16, 2007, and December 7, 2007, the Missouri Department of Natural Resources (MDNR) requested to amend the SIP to replace the St. Louis centralized transient I/M240 vehicle test program Gateway Clean Air Program (GCAP) and associated state rule with a de-centralized, OBD only vehicle I/M program called, the Gateway Vehicle Inspection Program (GVIP), and a new I/M rule reflecting these changes. In this action, EPA is also proposing approval of three additional SIP revisions submitted by Missouri related to the state's I/M program including minor clarification edits to the new I/M rule, exemptions for specially constructed vehicles or “kit-cars,” exemptions for Plugin Hybrid Electric Vehicles (PHEV), and rescission of Missouri State Highway Patrol rules from the Missouri SIP.

These revisions to Missouri's SIP do not have an adverse effect on air quality as demonstrated in the technical support document which is a part of this docket. EPA's approval of these SIP revisions is being done in accordance with the requirements of the Clean Air Act (CAA).

DATES: Comments must be received on or before January 28, 2015.

ADDRESSES: Submit your comments, identified by Docket ID No. EPA-R07-OAR-2014-0399, by one of the following methods:

1. www.regulations.gov: Follow the on-line instructions for submitting comments.

2. Email: brown.steven@epa.gov

3. Mail or Hand Delivery or Courier: Steven Brown, Environmental Protection Agency, Air Planning and Development Branch, 11201 Renner Boulevard, Lenexa, Kansas 66219.

Instructions: Direct your comments to Docket ID No. EPA-R07-OAR-2014-0399. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket. All documents in the electronic docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Air Planning and Development Branch, 11201 Renner Boulevard, Lenexa, Kansas 66219. EPA requests that you contact the person listed in the FOR FURTHER INFORMATION CONTACT section to schedule your inspection. The interested persons wanting to examine these documents should make an appointment with the office at least 24 hours in advance.

FOR FURTHER INFORMATION CONTACT: Steven Brown Environmental Protection Agency, Air Planning and Development Branch, 11201 Renner Boulevard, Lenexa, Kansas 66219 at (913) 551-7718, or by email at brown.steven@epa.gov.

SUPPLEMENTARY INFORMATION: Throughout this document “we,” “us,” or “our” refer to EPA. This section provides additional information by addressing the following:

I. What is being addressed?

II. Have the requirements for approval of a SIP revision been met?

III. What action is EPA taking?

IV. Statutory and Executive Order Reviews

I. What is being addressed?

EPA is proposing approval into the SIP, revisions to St. Louis vehicle I/M program to replace the centralized, transient I/M240 vehicle I/M program (GCAP) with the de-centralized, OBD only, vehicle I/M program (GVIP). MDNR submitted to EPA five SIP revision submissions to address the vehicle I/M program replacement and associated state rule plus one supplemental demonstration. They are as follows:

On August 16, 2007, MDNR requested that Missouri Rule 10 CSR 10-5.380, “Motor Vehicle Emissions Inspection” be rescinded and replaced with the new rule 10 CSR 10-5.381, “On-Board Diagnostics Motor Vehicle Emissions Inspection.” In that same submittal letter, MDNR also requested that Missouri Rule 10 CSR 10-5.375, “Motor Vehicles Emissions Inspection Waiver” be rescinded. EPA does not plan on taking any action on 10 CSR 10-5.375 as it is not a part of the SIP.

On December 14, 2007, MDNR submitted the new GVIP plan and performance standard demonstration to show that the GVIP program meets the basic requirements as described in 40 CFR part 51 subpart S. This submission also requests that EPA approve the plan to replace the GCAP I/M program with the new GVIP program.

On December 21, 2007, Missouri submitted a revision requesting that the Missouri State Highway Patrol rules be removed from the Missouri SIP because the new rule 10 CSR 10-5.381 does not rely on the Missouri Highway Patrol rules for enforcement. More details can be found in the technical support document that is a part of this docket.

On January 2, 2009, MDNR submitted a required supplemental demonstration for I/M network type and program evaluation as required by 40 CFR 51.353. This demonstration is required within one year after the I/M program begins.

On June 17, 2009, Missouri submitted a revision to I/M rule 10 CSR 10-5.381 which includes minor clarification edits and exempts specially constructed vehicles or “kit-cars” from the rule.

On December 10, 2012, Missouri submitted another revision to exempt Plugin Hybrid Electric Vehicles (PHEV) from the I/M program as codified in rule 10 CSR 10-5.381. As part of our review, EPA performed a separate analysis of all the state's SIP submissions and a cumulative analysis as documented in the technical support document that is part of this docket.

II. Have the requirements for approval of a SIP revision been met?

The state submission has met the public notice requirements for SIP submissions in accordance with 40 CFR 51.102. The submission also satisfied the completeness criteria of 40 CFR part 51, appendix V. In addition, as explained in this proposed action and in more detail in the technical support document which is part of this docket, the revisions meet the substantive SIP requirements of the CAA, including section 110(l) and implementing regulations. EPA has determined that the revisions meet all applicable CAA regulations, policy and guidance as detailed in the technical support document.

III. What action is EPA taking?

EPA is proposing to approve these SIP revisions. While these SIP revisions were submitted in separate requests, they are direct changes to the St. Louis Vehicle Inspection Program and are being addressed in one SIP action. We are processing this as a proposed action. Final rulemaking will occur after consideration of any comments provided in response to this proposal.

IV. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this proposed action merely approves state law as meeting Federal requirements and does not impose additional requirements beyond those imposed by state law. For that reason, this proposed action:

• Is not a “significant regulatory action” under the terms of Executive Order 12866 (58 FR 51735, October 4, 1993) and is therefore not subject to review under Executive Orders 12866 and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: December 10, 2014.
Becky Weber,
Acting Regional Administrator, Region 7.

For the reasons stated in the preamble, the Environmental Protection Agency proposes to amend 40 CFR part 52 as set forth below:

PART 52—APPROVAL AND PROMULGATION OF IMPLEMENTATION PLANS

1. The authority citation for part 52 continues to read as follows:

Authority: 42 U.S.C. 7401 et. seq.

Subpart AA—Missouri

2. In § 52.1320, the table in paragraph (c) is amended by removing the entry “10-5.380” and adding the entry “10-5.381” to read as follows:

§ 52.1320 Identification of Plan.

* * * * *

(c) * * *

EPA-Approved Missouri Regulations
Missouri citation | Title | State effective date | EPA approval date | Explanation
Missouri Department of Natural Resources
| * * * * * * *
Chapter 5—Air Quality Standards and Air Pollution Control Regulations for the St. Louis Metropolitan Area
| * * * * * * *
10-5.381 | On-Board Diagnostics Motor Vehicle Emissions Inspection | 12/30/12 | 12/29/14 [Insert Federal Register citation]
* * * * * * *

* * * * *

[FR Doc. 2014-29869 Filed 12-24-14; 8:45 am]

BILLING CODE 6560-50-P